DEPARTMENT OF TRANSPORTATION

Federal Aviation Administration

[Docket No. FAA-2021-0519]

Agency Information Collection Activities: Requests for Comments; Clearance of New Approval of Information Collection: Information Required To Implement Emergency Grants-In-Aid for Airports Under the Coronavirus Response and Relief Supplemental Appropriations Act, 2021 and the American Rescue Plan Act, 2021

AGENCY: Federal Aviation Administration (FAA), DOT.

ACTION: Notice and request for comments.

SUMMARY: In accordance with the Paperwork Reduction Act of 1995, FAA invites public comments regarding FAA's intention to request Office of Management and Budget (OMB) approval for a new information collection. The information will be collected from airport sponsors who request payment under a concessions relief grant. FAA's Office of Airports will use the information to determine whether airport sponsors and airport concessions benefitting from rent relief meet the eligibility and other requirements under CRRSA and ARPA prior to processing a payment of Federal funds.

DATES: Written comments should be submitted by July 12, 2021.

ADDRESSES: Written comments and recommendations for the proposed information collection should be sent within 30 days of publication of this notice to www.reginfo.gov/public/do/PRAMain. Find this particular information collection by selecting “Currently under 30-day Review—Open for Public Comments” or by using the search function. Comments received will not be considered before approval of this emergency collection but will be considered in the renewal process.

FOR FURTHER INFORMATION CONTACT: Julieann Dwyer by email at: Julieann.Dwyer@faa.gov; phone: 202-267-8375.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2121-XXXX.

Title: Agency Information Collection Activities: Requests for Comments; Clearance of New Approval of Information Collection: Information Required to Implement Airport Grant Programs under the Coronavirus Response and Relief Supplemental Appropriations Act, 2021 and the American Rescue Plan Act, 2021.

Form Numbers: None.

Type of Review: FAA seeks emergency clearance for a new information collection.

Background: FAA intends to seek emergency clearance for a new information to facilitate its implementation of grants under the Coronavirus Response and Relief Supplemental Appropriations Act, Public Law 116-260 (Dec. 27, 2020) (CRRSA) and the American Rescue Plan Act, Public Law 117-2 (Mar. 11, 2021) (ARPA) to primary airports to provide relief from rent and minimum annual guarantee (MAG) obligations to eligible airport concessions. This information collection permits FAA to confirm that rent relief is consistent with the requirements of CRRSA and ARPA. If FAA does not receive emergency approval, the economic recovery of the nation's air transport system may be delayed because of the inability to of airports to maintain continuity of operations and assure the sustainability of vital concession partners.

CRRSA directed FAA to provide $200 million in grants to primary airports for the purpose of providing relief from rent and MAG obligations to eligible airport concessions. In addition, ARPA directed FAA to provide $800 million in grants to primary airports for the purpose of providing relief from rent and MAG obligations to eligible airport concessions. FAA developed a streamlined information collection to confirm that airport sponsors and concessions receiving rent relief met CRRSA and ARPA eligibility and other legal requirements. Specifically, airport sponsors must provide relief on a proportional basis and after December 27, 2020, and March 11, 2021, respectively, as well as conduct prioritized consultation with Airport Concession Disadvantaged Business Enterprises (ACDBEs).

The information will be collected from airport sponsors (public agencies) who request payment under a concessions relief grant. FAA's Office of Airports (ARP) will use the information to determine whether airport sponsors and airport concessions benefitting from rent relief meet the eligibility and other requirements under CRRSA and ARPA prior to processing a payment of Federal funds.

Comments received will not be considered before approval of this emergency collection but will be considered in the renewal process.

Respondents: FAA estimates approximately 404 respondents.

Frequency: Information will be collected one time for each grant program.

Estimated Average Burden per Response: 6 hours.

Estimated Total Annual Burden: Approximately 4,848 hours annually.

Issued in Washington, DC, on June 7, 2021.
Robert A. Hawks,
Deputy Director, Office of Airports Planning and Programming, Federal Aviation Administration.

[FR Doc. 2021-12232 Filed 6-10-21; 8:45 am]

BILLING CODE 4910-13-P